DEPARTMENT OF TRANSPORTATION

Federal Aviation Administration

14 CFR Part 39

[Docket No. FAA-2010-0242; Directorate Identifier 2009-SW-27-AD; Amendment 39-16232; AD 2010-06-08]

RIN 2120-AA64

Airworthiness Directives; Sikorsky Aircraft Corporation Model S-76C Helicopters

AGENCY: Federal Aviation Administration, DOT.

ACTION: Final rule; request for comments.

SUMMARY: This amendment adopts a new airworthiness directive (AD) for the specified Sikorsky Aircraft Corporation (Sikorsky) Model S-76C helicopters. This action requires inspecting the emergency flotation system squib connector (flotation system connector) to determine if a metallic foil shunt is installed. This amendment is prompted by a discovery that a metallic foil shunt meant to prevent inadvertent activation of a flotation system during installation was still installed in the left-hand flotation system connector of a Model S-76C helicopter. The actions specified in this AD are intended to determine if a metallic foil shunt is installed in the flotation system, which could prevent the flotation system from deploying and could prevent the helicopter from staying afloat long enough to enable emergency evacuation after a water landing.

DATES: Effective April 1, 2010.

The incorporation by reference of certain publications listed in the regulations is approved by the Director of the Federal Register as of April 1, 2010.

Comments for inclusion in the Rules Docket must be received on or before May 17, 2010.

ADDRESSES: Use one of the following addresses to submit comments on this AD:

• Federal eRulemaking Portal: Go to http://www.regulations.gov. Follow the instructions for submitting comments.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Sikorsky Aircraft Corporation, Attn: Manager, Commercial Technical Support, mailstop s581a, 6900 Main Street, Stratford, CT, telephone (203) 383-4866, e-mail address tsslibrary@sikorsky.com, or at http://www.sikorsky.com.

EXAMINING THE DOCKET: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Terry Fahr, Aviation Safety Engineer, Boston Aircraft Certification Office, 12 New England Executive Park, Burlington, MA 01803, telephone (781) 238-7155, fax (781) 238-7170.

SUPPLEMENTARY INFORMATION: This amendment adopts a new AD for the specified Sikorsky Model S-76C helicopters. This action requires a one-time inspection of the flotation system connector to determine if a metallic foil shunt is installed, and if one is found, removing it. This amendment is prompted by a discovery during an inspection that a metallic foil shunt was still installed in the left-hand flotation system squib connector of a Model S-76C helicopter. The metallic foil shunt is intended to prevent inadvertent activation of the flotation system during installation. The actions specified in this AD are intended to determine if a metallic foil shunt is installed in the flotation system, which could prevent the flotation system from deploying and could prevent the helicopter from staying afloat long enough to enable emergency evacuation after a water landing.

We have reviewed Sikorsky Alert Service Bulletin No. 76-32-30, dated April 8, 2009, which describes procedures for a one-time inspection of a flotation system connector, installed by Keystone Helicopter Corporation on Sikorsky Model S-76C helicopters, serial numbers 760501 and 760506 through 760761, to determine if a metallic foil shunt is installed, and if so, removing it.

This unsafe condition is likely to exist or develop on other helicopters of the same type design. Therefore, this AD is being issued to require inspecting the flotation system connector to determine if a metallic foil shunt is installed, which could prevent the flotation system from deploying and could prevent the helicopter from staying afloat long enough to enable emergency evacuation after a water landing. This AD requires, before the next flight over water, or on or before 30 days after the effective date of this AD, whichever occurs first, accomplishing the actions by following specified portions of the alert service bulletin described previously.

The short compliance time involved is required because the previously described critical unsafe condition could adversely affect the ability of the helicopter to stay afloat after an emergency water landing. Therefore, inspecting the flotation system connector and removing any metallic foil shunt that is found is required before the next flight over water, or on or before 30 days after the effective date of this AD, whichever occurs first, and this AD must be issued immediately.

Since a situation exists that requires the immediate adoption of this regulation, it is found that notice and opportunity for prior public comment hereon are impracticable, and that good cause exists for making this amendment effective in less than 30 days.

We estimate that this AD will affect 76 helicopters, and inspection and removal, if necessary, will take approximately 1 work hour to accomplish at an average labor rate of $85 per work hour. Based on these figures, we estimate the total cost impact of the AD on U.S. operators to be $6,460.

Comments Invited

This AD is a final rule that involves requirements that affect flight safety and was not preceded by notice and an opportunity for public comment; however, we invite you to submit any written data, views, or arguments regarding this AD. Send your comments to an address listed under ADDRESSES. Include “Docket No. FAA-2010-0242; Directorate Identifier 2009-SW-27-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-06-08 Sikorsky Aircraft Corporation: Amendment 39-16232. Docket No. FAA-2010-0242; Directorate Identifier 2009-SW-27-AD.

Applicability: Sikorsky Aircraft Corporation Model S-76C helicopters, serial numbers 760501 and 760506 through 760761, with Option Code 88051 Flotation System installed by Keystone Helicopter Corporation, certificated in any category.

Compliance: Before the next flight over water, or within 30 days, whichever occurs first, unless accomplished previously.

To determine if a metallic foil shunt is installed in the flotation system, which could prevent the flotation system from deploying and could prevent the helicopter from staying afloat long enough to enable emergency evacuation after a water landing, accomplish the following:

(a) Inspect the flotation system connector and if a metallic foil shunt is found, remove it in accordance with the Accomplishment Instructions, paragraphs 3.A.(1) through 3.A.(9), in Sikorsky Alert Service Bulletin No. 76-32-30, dated April 8, 2009.

(b) To request a different method of compliance or a different compliance time for this AD, follow the procedures in 14 CFR 39.19. Contact the Manager, Boston Aircraft Certification Office, FAA, Attn: Terry Fahr, 12 New England Executive Park, Burlington, MA 01803, telephone (781) 238-7155, fax (781) 238-7170.

(c) The inspection shall be done in accordance with the specified portions of Sikorsky Alert Service Bulletin No. 76-32-30, dated April 8, 2009. The Director of the Federal Register approved this incorporation by reference in accordance with 5 U.S.C. 552(a) and 1 CFR part 51. Copies may be obtained from Sikorsky Aircraft Corporation, Attn: Manager, Commercial Technical Support, mailstop s581a, 6900 Main Street, Stratford, CT, telephone (203) 383-4866, e-mail address tsslibrary@sikorsky.com, or at http://www.sikorsky.com. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

Joint Aircraft System/Component (JASC) Code

(d) JASC Code 3212: Emergency Flotation Systems.

(e) This amendment becomes effective on April 1, 2010.

Issued in Fort Worth, Texas, on February 3, 2010.
Mark R. Schilling,
Acting Manager, Rotorcraft Directorate, Aircraft Certification Service.

[FR Doc. 2010-5294 Filed 3-16-10; 8:45 am]

BILLING CODE 4910-13-P